DEPARTMENT OF TRANSPORTATION

Federal Aviation Administration

14 CFR Part 73

[Docket No. FAA-2003-13850; Airspace Docket No. 02-AEA-19]

RIN 2120-AA66

Establishment of Restricted Areas 5802C, D, and E; Fort Indiantown Gap, PA

AGENCY: Federal Aviation Administration (FAA), DOT.

ACTION: Final rule.

SUMMARY: This action establishes Restricted Areas 5802C, D, and E (R-5802C, D, and E), at Fort Indiantown Gap, PA. The FAA is taking this action to provide additional restricted airspace needed by the Department of Defense (DOD) to conduct realistic aircrew training and to maintain proficiency in modern tactics that are required for combat readiness.

DATES: Effective: 0901 UTC, September 30, 2004.

FOR FURTHER INFORMATION CONTACT: Paul Gallant, Airspace and Rules, Office of System Operations and Safety, Federal Aviation Administration, 800 Independence Avenue, SW., Washington, DC 20591; telephone: (202) 267-8783.

SUPPLEMENTARY INFORMATION:

History

On August 14, 2003, the FAA published a notice in the Federal Register proposing to amend the time of designation and the using agency for R-5802A and B; and to establish R-5802C, D, and E, at Fort Indiantown Gap, PA (68 FR 48579). This restricted airspace is also known as the Bollen Range.

The notice proposed to establish R-5802C, extending from 500 feet above ground level (AGL) up to but not including 17,000 feet above mean sea level (MSL). R-5802C would consist primarily of that airspace currently designated as the Kiowa military operations area (MOA). Concurrent with the designation of R-5802C, the Kiowa MOA would be revoked through a separate non-rulemaking action. The FAA also proposed to establish R-5802D extending from 17,000 feet MSL to but not including flight level (FL) 220; and R-5802E extending from FL 220 to FL 250.

The notice further proposed to change the time of designation for the existing restricted areas, R-5802A and B, from the current “February 15 through May 10 and September 1 through December 15, 0800-2300 local time on Saturdays and 0800-1200 local time on Sundays; May 11 through August 31, 0800-2400 local time on Saturdays and 0800-2000 local time on all other days; other times by NOTAM issued at least 48 hours in advance,” to “daily, sunrise to 2200;” and to change the using agency from “Commander, Fort Indiantown Gap, Annville, PA,” to “ANG, 193rd SOW, Det 1, Fort Indiantown Gap Military Reservation, PA.” In addition, the FAA proposed to apply the revised time of designation and using agency to the proposed restricted areas R-5802C, D, and E. On August 22, 2003, the FAA published a correction in the Federal Register to correct a typographical error in one boundary coordinate of the proposed R-5803E (68 FR 50838).

Interested parties were invited to participate in this rulemaking effort by submitting written comments on the proposal. Comments were received from the Experimental Aircraft Association (EAA), the Aircraft Owners and Pilots Association (AOPA), and two individuals.

Analysis of Comments

In response to the notice, the EAA did not oppose the proposed modifications, but commented that the FAA should make a graphic depiction of the proposed airspace available in an electronic format to make it easier for interested parties to review. The FAA currently provides “hard copy” graphics of special use airspace (SUA) proposals upon request and will explore options for making proposed SUA graphic depictions available via electronic means.

AOPA objected to the proposed increase in the restricted areas' time of designation stating that restricted area usage data do not indicate a need to increase the times of use. AOPA recommended that the currently published time of designation for R-5802A and B be retained for the Bollen Range airspace. In response to this comment, the Air National Guard (ANG) reevaluated its requirements and requested that the FAA not amend the time of designation for the restricted areas. Based on this request, the proposed change to the time of designation is hereby withdrawn. The time of designation currently published for R-5802A and B will remain unchanged and the same time period will be applied to R-5802C, D, and E.

The ANG also requested that the FAA not amend the name of the using agency for the Bollen Range restricted areas as proposed in the notice. Based on this request, the proposed change to the name of the using agency for the Bollen Range restricted areas is hereby withdrawn. The using agency for all Bollen Range restricted areas will remain “Commander, Fort Indiantown Gap, Annville, PA.” Consequently, R-5802A and B will not be modified by this action.

One commenter wrote that the notice did not provide a rationale for converting the Kiowa MOA to a restricted area. The FAA does not agree. As discussed in the notice, the FAA proposed these changes because the existing Bollen Range restricted areas are too small to permit essential aircrew training. For example, High Altitude Release Bomb (HARB) deliveries cannot be accomplished at the range because the existing restricted area ceiling (13,000 feet MSL) is too low to contain the required high altitude release bombing patterns. Further, the current restricted area lateral dimensions are too small to provide realistic training in other tactics such as covert lighting, night vision devices, and targeting laser systems. Since an MOA cannot be used for hazardous training activities, such as weapons delivery, use of target designation lasers, etc., these types of activities must be conducted in a restricted area. Therefore, the conversion of the Kiowa MOA to restricted airspace is necessary to provide sufficient SUA for realistic aircrew training at the Bollen Range.

Another commenter suggested that use of the restricted areas be limited to nighttime only because the stated justification for the proposal was based on “recent combat experience” wherein bombing was usually done at night. The FAA does not agree. The justification for expanding the airspace is only partly based on nighttime operations requirements. As discussed above, the purpose of the proposed expansion is to provide higher altitudes to contain HARB deliveries, and to provide sufficient lateral space for more realistic training in other tactics, including the use of target designation lasers, covert lighting, and night vision devices. Aircrew qualification and recurring proficiency training for HARB and other tactics requires both day and nighttime operations. In addition, there is a continuing requirement to use the range for ongoing day and night activities that have been conducted there for years.

AOPA and the other commenters opposed the restricted airspace expansion based on their belief that it would place unnecessary restrictions on general aviation operations, effectively eliminate general aviation aircraft overflights of this airspace, and disrupt and delay air traffic flowing into and out of the New York, Philadelphia, and Washington, DC areas. The FAA does not agree with these comments for the following reasons. The controlling agency (New York Air Route Traffic Control Center) negotiated modifications to the ANG's preliminary proposal to minimize air traffic disruptions and delay conflicts in the affected area. Air traffic flow in the area runs mainly to the north and east of both the existing and expanded Bollen Range SUA. Converting the Kiowa MOA to R-5802C will result in only a small lateral expansion of restricted airspace by approximately one, to one and one-half, nautical miles on the northwest side of the existing restricted area boundary. The expanded restricted airspace remains clear of all Federal airways in the vicinity of the range, and also remains clear of the boundary of the Harrisburg Terminal Radar Service Area (TRSA) located to the south of the range. Restricted areas R-5802A, B, C, and D, will encompass a relatively small area that is roughly 5 nautical miles by 7 nautical miles in size. Therefore, a minor flight path deviation would be required to avoid the airspace during periods when military activity precludes overflight of the range. Additionally, to minimize possible impact on nonparticipating aircraft operations that might result from the expansion of the range, the restricted areas will be subjected to “joint-use” procedures and will be scheduled only when needed for military activity. In consideration of the above, the FAA does not believe that these modifications will significantly affect aviation access in the vicinity of the Bollen Range.

Except for the above changes and editorial changes, this amendment is the same as that proposed in the notice.

Statutory Authority

The FAA Administrator has broad authority under Title 49 of the United States Code (49 U.S.C.) to regulate the use of the navigable airspace. In exercising that authority, the Administrator is required to give consideration to the requirements of national defense and commercial and general aviation, and the public right of freedom of transit through the navigable airspace (49 U.S.C. 40101). The Administrator is also empowered to develop plans and policy for the use of the navigable airspace and assign by regulation or order the use of the airspace necessary to ensure the safety of aircraft and the efficient use of airspace (49 U.S.C. 40103(b)). Additionally, the Administrator shall, in consultation with the Secretary of Defense, establish areas in the airspace the Administrator decides are necessary in the interest of national defense (49 U.S.C. 40103(b)(3)(A)).

The Rule

The FAA is amending Title 14 Code of Federal Regulations (14 CFR) part 73 (part 73) by establishing R-5802C, D, and E, at Fort Indiantown Gap, PA. Specifically, R-5802C will extend from 500 feet AGL to but not including 17,000 feet MSL and will be formed, in part, by converting the Kiowa MOA to restricted airspace. Concurrent with this action, the Kiowa MOA will be revoked. R-5802D will extend from 17,000 feet MSL to but not including FL 220, and R-5802E will extend from FL 220 to FL 250. The time of designation for the new restricted areas will be “February 15 through May 10 and September 1 through December 15, 0800-2300 local time on Saturdays and 0800-1200 local time on Sundays; May 11 through August 31, 0800-2400 local time on Saturdays and 0800-2000 local time on all other days; other times by NOTAM issued at least 48 hours in advance.” The using agency for the airspace will be the “Commander, Fort Indiantown Gap, Annville, PA,” and the Controlling Agency will be “FAA, New York ARTCC.”

The ANG requested the FAA to take this action because additional restricted airspace is needed at the Bollen Range to contain HARB training, and to enable more realistic aircrew training in various other tactics, involving both high and low altitudes, and day and nighttime operations. In addition to the aircraft activities described above, portions of the Fort Indiantown Gap/Bollen Range restricted airspace will continue to be used for the various fixed-wing and helicopter aircraft operations, ground-based weapons firings, and other activities that are currently conducted at the range. The FAA has determined that this rulemaking action is “necessary in the interest of national defense” as required under 49 U.S.C. 40103(b)(3)(A).

Section 73.58 of part 73 of the Federal Aviation Regulations was republished in FAA Order 7400.8L dated October 7, 2003.

The FAA has determined that this regulation only involves an established body of technical regulations for which frequent and routine amendments are necessary to keep them operationally current. Therefore, this proposed regulation: (1) is not a “significant regulatory action” under Executive Order 12866; (2) is not a “significant rule” under Department of Transportation, (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The Pennsylvania ANG conducted an environmental impact analysis of the proposal and determined that the proposed action qualifies for a categorical exclusion in accordance with applicable U.S. Air Force directives. The FAA reviewed the proponent's environmental analysis documentation and determined that this airspace action is not expected to cause any potentially significant environmental impacts and does not trigger any extraordinary circumstances that would warrant preparation of an environmental assessment. The FAA determined, therefore, that this action qualifies for categorical exclusion from further environmental analysis under the National Environmental Policy Act in accordance with FAA Order 1050.1E, “Environmental Impacts: Policies and Procedures,” paragraphs 303d, 311d, and 312d.

List of Subjects in 14 CFR Part 73

Airspace, Navigation (air).

Adoption of Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.58 [Amended]

2. § 73.58 is amended as follows:

* * * * *

R-5802C Fort Indiantown Gap, PA [New]

Boundaries. Beginning at lat. 40°23′24″ N., long. 76°43′34″ W.; to lat. 40°25′06″ N., long. 76°44′47″ W.; to lat. 40°28′00″ N., long. 76°46′59″ W.; to lat. 40°29′42″ N., long. 76°42′59″ W.; to lat. 40°29′31″ N., long. 76°39′07″ W.; to lat. 40°28′31″ N., long. 76°36′21″ W.; to lat. 40°27′13″ N., long. 76°35′13″ W.; to lat. 40°26′18″ N., long. 76°36′40″ W.; thence to point of beginning.

Designated altitudes. 500 feet AGL to but not including 17,000 feet MSL.

Time of designation. February 15 through May 10 and September 1 through December 15, 0800-2400 local time on Saturdays and 0800-1200 local time on Sundays; May 11 through August 31, 0800-2400 local time on Saturdays and 0800-2000 local time on all other days; other times by NOTAM issued at least 48 hours in advance.

Controlling agency. FAA, New York ARTCC.

Using agency. Commander, Fort Indiantown Gap, Annville, PA.

R-5802D Fort Indiantown Gap, PA [New]

Boundaries. Beginning at lat. 40°23′24″ N., long. 76°43′34″ W.; to lat. 40°25′06″ N., long. 76°44′47″ W.; to lat. 40°28′00″ N., long. 76°46′59″ W.; to lat. 40°29′42″ N., long. 76°42′59″ W.; to lat. 40°29′31″ N., long. 76°39′07″ W.; to lat. 40°28′31″ N., long. 76°36′21″ W.; to lat. 40°27′13″ N., long. 76°35′13″ W.; to lat. 40°26′18″ N., long. 76°36′40″ W.; thence to point of beginning.

Designated altitudes. 17,000 feet MSL to but not including FL 220.

Time of designation. February 15 through May 10 and September 1 through December 15, 0800-2400 local time on Saturdays and 0800-1200 local time on Sundays; May 11 through August 31, 0800-2400 local time on Saturdays and 0800-2000 local time on all other days; other times by NOTAM issued at least 48 hours in advance.

Controlling agency. FAA, New York ARTCC.

Using agency. Commander, Fort Indiantown Gap, Annville, PA.

R-5802E Fort Indiantown Gap, PA [New]

Boundaries. Beginning at lat. 40°29′42″ N., long. 76°42′59″ W.; to lat. 40°29′31″ N., long. 76°39′07″ W.; to lat. 40°28′31″ N., long. 76°36′21″ W.; to lat. 40°27′13″ N., long. 76°35′13″ W.; to lat. 40°23′45″ N., long. 76°32′36″ W.; to lat. 40°22′50″ N., long. 76°34′03″ W.; to lat. 40°19′55″ N., long. 76°40′59″ W.; thence clockwise along the arc of a 4-nautical-mile radius circle centered at lat. 40°23′24″ N., long. 76°43′34″ W.; to lat. 40°21′48″ N., long. 76°48′18″ W.; to lat. 40°26′04″ N., long. 76°51′34″ W.; to lat. 40°28′00″ N., long. 76°46′59″ W.; thence to point of beginning.

Designated altitudes. FL 220 to FL 250.

Time of designation. February 15 through May 10 and September 1 through December 15, 0800-2400 local time on Saturdays and 0800-1200 local time on Sundays; May 11 through August 31, 0800-2400 local time on Saturdays and 0800-2000 local time on all other days; other times by NOTAM issued at least 48 hours in advance.

Controlling agency. FAA, New York ARTCC.

Using agency. Commander, Fort Indiantown Gap, Annville, PA.

* * * * *

Issued in Washington, DC, on July 30, 2004.
Reginald C. Matthews,
Manager, Airspace and Rules.

[FR Doc. 04-17928 Filed 8-4-04; 8:45 am]

BILLING CODE 4910-13-P